DEPARTMENT OF HOMELAND SECURITY

U.S. Customs and Border Protection

[OMB Control Number 1651-0024]

Agency Information Collection Activities; Revision; Entry/Immediate Delivery Application and Automated Commercial Environment (ACE) Cargo Release

AGENCY: U.S. Customs and Border Protection (CBP), Department of Homeland Security.

ACTION: 60-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than March 17, 2025) to be assured of consideration.

ADDRESSES: Written comments and/or suggestions regarding the item(s) contained in this notice must include the OMB Control Number 1651-0024 in the subject line and the agency name. Please submit written comments and/or suggestions in English. Please use the following method to submit comments:

Email. Submit comments to: CBP_PRA@cbp.dhs.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Entry/Immediate Delivery Application and ACE Cargo Release.

OMB Number: 1651-0024.

Form Number: 3461 + 3461 ALT.

Current Actions: Revision.

Type of Review: Revision.

Affected Public: Businesses.

Abstract: All items imported into the United States are subject to examination before entering the commerce of the United States. There are two procedures available to affect the release of imported merchandise, including “entry” pursuant to 19 U.S.C. 1484, and “immediate delivery” pursuant to 19 U.S.C. 1448(b). Under both procedures, CBP Forms 3461, Entry/Immediate Delivery, and 3461 ALT are the source documents in the packages presented to Customs and Border Protection (CBP). The information collected on CBP Forms 3461 and 3461 ALT allow CBP officers to verify that the information regarding the consignee and shipment is correct and that a bond is on file with CBP. CBP also uses these forms to close out the manifest and to establish the obligation to pay estimated duties in the time period prescribed by law or regulation. CBP Form 3461 is also a delivery authorization document and is given to the importing carrier to authorize the release of the merchandise.

CBP Forms 3461 and 3461 ALT are provided for by 19 CFR 142.3, 142.16, 141.22, and 141.24. The forms and instructions for Form 3461 are accessible at: https://www.cbp.gov/newsroom/publications/forms?title=3461&=Apply.

Ace Cargo Release (formerly referred to as “Simplified Entry”) is a program for ACE entry summary filers in which importers or brokers may file ACE Cargo Release data in lieu of filing the CBP Form 3461. This data consists of 12 required elements: importer of record; buyer name and address; buyer employer identification number (consignee number), seller name and address; manufacturer/supplier name and address; Harmonized Tariff Schedule 10-digit number; country of origin; bill of lading; house air waybill number; bill of lading issuer code; entry number; entry type; and estimated shipment value. There are also four optional data elements: the container stuffing location, consolidator name and address, ship to party name and address. There are three Global Business Identifier (GBI) identifiers available to filers: 20-digit Legal Entity Identifier (LEI), 9-digit Data Universal Numbering System (DUNS), and 13-digit Global Location Number (GLN). The GBI Identifiers can be inputted for any of the following parties: manufacturer/producer, seller shipper, exporter, distributor or packager. The GBI identifiers are new optional data elements that are being collected to better identify the legal entity that is interacting with CBP as well as explore opportunities to enhance supply chain traceability and visibility in response to the growing complexity of global trade. The data collected under the ACE Cargo Release program is intended to reduce transaction costs, expedite cargo release, and enhance cargo security. ACE Cargo Release filing minimizes the redundancy of data submitted by the filer to CBP through receiving carrier data from the carrier. This design allows the participants to file earlier in the transportation flow. Guidance on using ACE Cargo Release may be found at https://www.cbp.gov/trade/ace/features.

It should be noted that ACE Cargo Release was previously called Simplified Entry.

New Changes:

1. Global Business Identifier (GBI): Collectively, the updates proposed below aim to enhance upstream supply chain traceability and visibility while addressing the increasing complexity of global trade supply chains. All participation and data submitted is voluntary. Find more details about GBI in the 1651-0141 GBI information collection.

The GBI Test is expanding the available supply chain entity party types from the original six optional parties (Manufacturer, Shipper, Seller, Exporter, Distributor, Packager), to include two new parties: “Intermediary” and “Source,” along with optional free text fields that will allow filers to input additional descriptions and information about the specific party type. These party types would be made available in the GBI Enrollment database as well as the Automated Commercial Environment Cargo Release.

A modification within the Global Business Identifiers (GBI) Enrollment database will allow the trade to submit one or more of the unique GBI's (the Legal Entity Identifier (LEI), Global Location Number (GLN), and Data Universal Numbering System (DUNS)) for a supply chain entity, as opposed to all three as previously approved and announced. Furthermore, a related programming update will enable trade participants the ability to modify or change a previous enrollment, including updating or adding additional GBI numbers.

CBP intends to expand the choices of identifiers available to filers over the duration of the Test, including those that at no cost to the government provide access to the underlying entity and product specific supply chain data associated with the identifier. This would enhance traceability for CBP which may translate to facilitation benefits and reduced industry costs. CBP has initiated programming requests in ACE to accommodate the intake of additional GBI identifier qualifiers. These changes are under development and there is no defined timeline for their completion. Specifically, CBP will begin by adding to the GBI Test the new Altana ID (ALTA) maintained by Altana Technologies, USG Inc. (Altana). The addition of the ALTA identifier alongside current and future GBI identifiers will widen participants' choices and allow CBP to continue to evaluate the breadth and veracity of entity and supply chain information embedded within different types of identifier solutions already being leveraged by trade industry traceability stewards. It will also contribute to CBP's ongoing exploration of how traced supply chain information may be ingested and operationalized for risk management and facilitation purposes. CBP will add any new identifiers into the collection and submit to OMB for approval as they are determined through a change request (Form 83-C).

2. Russian Sanctions Executive Order 14114:

New Data Elements are being added to comply with the Russian sanctions outlined in Executive Order 14114 published on December 22, 2023. The data elements and burden are recorded in the supporting statement of the 1651-0NEW Russian Sanctions information collection package.

3. Update to Form 3461/3461ALT Instructions:

The instructions on the Form 3461/3461 ALT have been updated to include the new Russian sanctions data elements and text field boxes, as well as being updated to improve user experience and clarity of the form. Find a copy of the new form, with the changes outlined included with this package submission as supplementary documents.

Type of Information Collection: ACE Cargo Release/ABI.

Estimated Number of Respondents: 9,810.

Estimated Number of Annual Responses per Respondent: 3,041.

Estimated Number of Total Annual Responses: 29,832,210.

Estimated Time per Response: 10 minutes.

Estimated Total Annual Burden Hours: 4,972,035.

Type of Information Collection: Form 3461 Paper/Electronic.

Estimated Number of Respondents: 12,995.

Estimated Number of Annual Responses per Respondent: 1.

Estimated Number of Total Annual Responses: 12,995.

Estimated Time per Response: 15 minutes.

Estimated Total Annual Burden Hours: 3,249.

Dated: January 8, 2025.
Seth D. Renkema,
Branch Chief, Economic Impact Analysis Branch, U.S. Customs and Border Protection.

[FR Doc. 2025-00608 Filed 1-13-25; 8:45 am]

BILLING CODE 9111-14-P